DEPARTMENT OF HOMELAND SECURITY

U.S. Customs and Border Protection

Accreditation and Approval of AmSpec LLC (Peñuelas, PR), as a Commercial Gauger and Laboratory

AGENCY: U.S. Customs and Border Protection, Department of Homeland Security.

ACTION: Notice of accreditation and approval of AmSpec LLC (Peñuelas, PR), as a commercial gauger and laboratory.

SUMMARY: Notice is hereby given, pursuant to CBP regulations, that AmSpec LLC (Peñuelas, PR), has been approved to gauge petroleum and certain petroleum products and accredited to test petroleum and certain petroleum products for customs purposes for the next three years as of September 10, 2024.

DATES: AmSpec LLC (Peñuelas, PR), was approved and accredited as a commercial gauger and laboratory as of September 10, 2024. The next triennial inspection date will be scheduled for September 2027.

FOR FURTHER INFORMATION CONTACT: Dr. Justin Shey, Laboratories and Scientific Services, U.S. Customs and Border Protection, 1331 Pennsylvania Avenue NW, Suite 1501A North, Washington, DC 20004, tel. 202-344-1060.

SUPPLEMENTARY INFORMATION: Notice is hereby given pursuant to 19 CFR 151.12 and 19 CFR 151.13, that AmSpec LLC, Road 127 Km 15.6, Peñuelas, PR 00624, has been approved to gauge petroleum and certain petroleum products and accredited to test petroleum and certain petroleum products for customs purposes, in accordance with the provisions of 19 CFR 151.12 and 19 CFR 151.13.

AmSpec LLC (Peñuelas, PR), is approved for the following gauging procedures for petroleum and certain petroleum products from the American Petroleum Institute (API):

API chapters | Title
3 | Tank Gauging.
7 | Temperature Determination.
8 | Sampling.
11 | Physical Properties Data.
12 | Calculation of Petroleum Quantities.
17 | Marine Measurement.

AmSpec LLC (Peñuelas, PR), is accredited for the following laboratory analysis procedures and methods for petroleum and certain petroleum products set forth by the U.S. Customs and Border Protection Laboratory Methods (CBPL) and American Society for Testing and Materials (ASTM):

CBPL No. | ASTM | Title
27-01 | D287 | Standard Test Method for API Gravity of Crude Petroleum and Petroleum Products (Hydrometer Method).
27-02 | D1298 | Standard Test Method for Density, Relative Density, or API Gravity of Crude Petroleum and Liquid Petroleum Products by Hydrometer Method.
27-03 | D4006 | Standard Test Method for Water in Crude Oil by Distillation.
27-04 | D95 | Standard Test Method for Water in Petroleum Products and Bituminous Materials by Distillation.
27-06 | D473 | Standard Test Method for Sediment in Crude Oils and Fuel Oils by the Extraction Method.
27-08 | D86 | Standard Test Method for Distillation of Petroleum Products at Atmospheric Pressure.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectrometry.
27-14 | D2622 | Standard Test Method for Sulfur in Petroleum Products by Wavelength Dispersive X-Ray Fluorescence Spectrometry.
27-48 | D4052 | Standard Test Method for Density, Relative Density, and API Gravity of Liquids by Digital Density Meter.
27-50 | D93 | Standard Test Methods for Flash Point by Pensky-Martens Closed Cup Tester.
27-54 | D1796 | Standard Test Method for Water and Sediment in Fuel Oils by the Centrifuge Method (Laboratory Procedure).
27-58 | D5191 | Standard Test Method for Vapor Pressure of Petroleum Products and Liquid Fuels (Mini Method).
N/A | D97 | Standard Test Method for Pour Point of Petroleum Products.
N/A | D482 | Standard Test Method for Ash from Petroleum Products.
N/A | D524 | Standard Test Method for Ramsbottom Carbon Residue of Petroleum Products.
N/A | D664 | Standard Test Method for Acid Number of Petroleum Products by Potentiometric Titration.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Patricia A. Coleman,
Deputy Assistant Commissioner, Laboratories and Scientific Services.

[FR Doc. 2025-22204 Filed 12-5-25; 8:45 am]

BILLING CODE P